ENVIRONMENTAL PROTECTION AGENCY

40 CFR Parts 122 and 412

[FRL-6921-4]

RIN 2040-AD19

National Pollutant Discharge Elimination System Permit Regulation and Effluent Limitations Guidelines and Standards for Concentrated Animal Feeding Operations

Correction

In proposed rule document 01-1 beginning on page 2960 in the issue of Friday, January 12, 2001, make the following correction:

On page 2960, in the second column, in the DATES section, “May 2, 2001” should read “May 14, 2001”.

[FR Doc. C1-1 Filed 1-18-01; 8:45 am]

BILLING CODE 1505-01-D